DEPARTMENT OF THE INTERIOR

Office of the Secretary

[DR.5B711.IA000814]

Sovereignty in Indian Education Grant Program

AGENCY: Bureau of Indian Education, Interior.

ACTION: Notice of availability and request for proposals.

SUMMARY: The Bureau of Indian Education announces the availability of competitive grants to tribes and their tribal education agencies to promote tribal control and operation of bureau-funded schools on their reservations. This notice invites tribes with three or more Bureau of Indian Education-funded schools to submit grant proposals.

DATES: Grant proposals must be received by September 12, 2014, at 4:00 p.m. Eastern Time. Questions related to the grant process must be received by August 20, 2014. Questions received after August 20, 2014, and before September 12, 2014, may not be considered.

ADDRESSES: Complete details on requirements for proposals and the evaluation and selection process can be found on the BIE Web site at this address: www.bie.edu. Submit grant applications to: Bureau of Indian Education, Attn: Wendy Greyeyes, 1849 C Street NW., MS-4655-MIB, Washington, DC 20240. Email submissions will be accepted at this address: wendy.greyeyes@bie.edu. Limit email submissions to attachments compatible with Microsoft Office Word 2007 or later and files with a .pdf file extension. Emailed submissions may not exceed 3MB total in size. Fax submissions are not acceptable.

FOR FURTHER INFORMATION CONTACT: Ms. Wendy Greyeyes, Bureau of Indian Education, Office of the Director, (202) 208-5810; wendy.greyeyes@bie.edu.

SUPPLEMENTARY INFORMATION: In 2013, the Secretary of the Interior and the Secretary of Education convened an American Indian Education Study Group to diagnose the systemic challenges facing the Bureau of Indian Education (BIE) and to propose a comprehensive plan for reform to ensure that all students attending BIE-funded schools receive a world-class education.

The Study Group drafted a framework for reform based on several listening sessions last fall with tribal leaders, Indian educators and others throughout Indian Country on how to facilitate tribal sovereignty in American Indian education and how to improve educational outcomes for students at BIE-funded schools. Overall, the Study Group met with nearly 400 individuals and received nearly 200 comments that helped it prepare the draft framework for educational reform that became the subject of four tribal consultation sessions held in April and May of 2014. The Study Group incorporated feedback it received from tribal leaders and other BIE stakeholders into the final Blueprint for Reform, released on June 13, 2014.

Acting on the recommendations in the Blueprint, BIE will award competitive grants to tribes and their tribal education agencies to promote tribal control and operation of BIE-funded schools on their Indian reservations. The purpose of the grants is to support the tribe's capacity to manage and operate tribally controlled schools as defined in the Tribally Controlled Schools Act of 1988 (Pub. L. 100-297). These funds will (a) support development of a school-reform plan to improve educational outcomes for students and (b) improve efficiencies and effectiveness in the operation of BIE-funded schools within a reservation.

Grant awards will range from $100,000 to $200,000 per fiscal year depending on the number of schools involved, number of students, complexity of creating new tribally managed school system and the tribe's technical approach. The grants will provide funds for the tribe to:

• Develop an implementation plan that will reform a tribe's current organizational structure towards an expert and independent tribal education agency that will support schools and students; and

• Cover the execution of the implementation plan with identified staffing, projected timelines, proposed budgets, and activities.

BIE is seeking proposals from tribes that support efforts to take control and operate BIE-funded schools located on the tribe's reservation. Each proposal must include a project narrative, a budget narrative, a work plan outline, and a Project Director to manage the execution of the grant. The Project Directors will participate in monthly collaboration meetings, submit quarterly budget updates, ensure an annual report is submitted at the end of each project year, and ultimately ensure that the tribal education agency fulfills the obligations of the grant. Complete details on requirements for proposals and the evaluation and selection process can be found on the BIE Web site at the address in the ADDRESSES section of this notice.

The grant proposal is due September 12, 2014, at 4:00 p.m. Eastern Time. The proposal should be packaged for delivery to permit timely arrival. The proposal package should be sent or hand delivered to the address in the ADDRESSES section of this notice.

Fax applications will NOT be accepted. Email submissions will be accepted at the address in the ADDRESSES section of this notice. Email submissions are limited to attachments compatible with Microsoft Office Word 2007 or later or files with a .pdf file extension. Emailed submissions must not exceed 3MB total in size.

Proposals submitted by Federal Express or Express Mail should be sent two or more days before the closing date. The proposal package should be sent to the address shown in the ADDRESSES section of this notice. The tribe is solely responsible for ensuring that its proposal arrives in a timely manner.

Dated: July 16, 2014.
Kevin K. Washburn,
Assistant Secretary, Indian Affairs.

[FR Doc. 2014-17397 Filed 7-23-14; 8:45 am]

BILLING CODE 4310-4N-P